DEPARTMENT OF ENERGY

Federal Energy Regulatory Commission

Combined Notice of Filings #2

Take notice that the Commission received the following electric rate filings:

Docket Numbers: ER18-280-004.

Applicants: Lee County Generating Station, LLC.

Description: Compliance filing: Reactive Tariff Compliance Filing to be effective 10/11/2017.

Filed Date: 7/11/18.

Accession Number: 20180711-5131.

Comments Due: 5 p.m. ET 8/1/18.

Docket Numbers: ER18-366-000.

Applicants: Midcontinent Independent System Operator, Inc., Ameren Illinois Company.

Description: Report Filing: 2018-07-11_Refund Report for Ameren-Kirkwood 1st Rev WDS to be effective N/A.

Filed Date: 7/11/18.

Accession Number: 20180711-5127.

Comments Due: 5 p.m. ET 8/1/18.

Docket Numbers: ER18-1607-001.

Applicants: Midcontinent Independent System Operator, Inc.

Description: Tariff Amendment: 2018-07-11_Amendment to Manual Redispatch filing to be effective 5/16/2018.

Filed Date: 7/11/18.

Accession Number: 20180711-5107.

Comments Due: 5 p.m. ET 8/1/18.

Docket Numbers: ER18-1611-000.

Applicants: Midcontinent Independent System Operator, Inc.

Description: Amendment to May 15, 2018 Limited Tariff Waiver Request of Midcontinent Independent System Operator, Inc.

Filed Date: 7/11/18.

Accession Number: 20180711-5129.

Comments Due: 5 p.m. ET 8/1/18.

Docket Numbers: ER18-1995-000.

Applicants: PJM Interconnection, L.L.C.

Description: § 205(d) Rate Filing: Original WMPA SA No. 5128; Queue No. AD1-156 to be effective 6/15/2018.

Filed Date: 7/11/18.

Accession Number: 20180711-5042.

Comments Due: 5 p.m. ET 8/1/18.

Docket Numbers: ER18-1996-000.

Applicants: Transource Pennsylvania, LLC.

Description: Application for Authorization Under Section 205 of the Federal Power Act of Transource Pennsylvania, LLC.

Filed Date: 7/11/18.

Accession Number: 20180711-5064.

Comments Due: 5 p.m. ET 8/1/18.

Docket Numbers: ER18-1997-000.

Applicants: Transource Maryland, LLC.

Description: Application for Authorization Under Section 205 of the Federal Power Act of Transource Maryland, LLC.

Filed Date: 7/11/18.

Accession Number: 20180711-5065.

Comments Due: 5 p.m. ET 8/1/18.

Docket Numbers: ER18-1998-000.

Applicants: Alabama Power Company.

Description: Tariff Cancellation: Teichos Energy (Wildwood Solar) SGIA Termination Filing to be effective 6/6/2018.

Filed Date: 7/11/18.

Accession Number: 20180711-5089.

Comments Due: 5 p.m. ET 8/1/18.

Docket Numbers: ER18-1999-000.

Applicants: FirstEnergy Solutions Corp.

Description: Request of FirstEnergy Solutions Corp. for Authorization to Make Wholesale Power Sales to an Affiliate.

Filed Date: 7/11/18.

Accession Number: 20180711-5106.

Comments Due: 5 p.m. ET 8/1/18.

Docket Numbers: ER18-2000-000.

Applicants: Arizona Public Service Company.

Description: § 205(d) Rate Filing: Market-Based Rate Tariff Revisions of APS to be effective 9/10/2018.

Filed Date: 7/11/18.

Accession Number: 20180711-5110.

Comments Due: 5 p.m. ET 8/1/18.

Docket Numbers: ER18-2001-000.

Applicants: Midcontinent Independent System Operator, Inc., MidAmerican Energy Company.

Description: § 205(d) Rate Filing: 2018-07-11_SA 3129 MidAmerican-Glaciers Edge Wind E&P (J506) to be effective 6/21/2018.

Filed Date: 7/11/18.

Accession Number: 20180711-5115.

Comments Due: 5 p.m. ET 8/1/18.

Docket Numbers: ER18-2002-000.

Applicants: Essential Power Rock Springs, LLC.

Description: § 205(d) Rate Filing: Reactive Rate Schedule to be effective 12/31/9998.

Filed Date: 7/11/18.

Accession Number: 20180711-5137.

Comments Due: 5 p.m. ET 8/1/18.

Docket Numbers: ER18-2003-000.

Applicants: Lorenzo Wind, LLC.

Description: Baseline eTariff Filing: Lorenzo Wind,LLC Application for Market-Based Rate Authority to be effective 9/1/2018.

Filed Date: 7/11/18.

Accession Number: 20180711-5153.

Comments Due: 5 p.m. ET 8/1/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2018.
Nathaniel J. Davis, Sr.,
Deputy Secretary.

[FR Doc. 2018-15198 Filed 7-16-18; 8:45 am]

BILLING CODE 6717-01-P